DEPARTMENT OF ENERGY

Federal Energy Regulatory Commission

Combined Notice of Filings

Take notice that the Commission has received the following Natural Gas Pipeline Rate and Refund Report filings:

Filings Instituting Proceedings

Docket Numbers: RP26-340-000.

Applicants: Northern Natural Gas Company.

Description: 4(d) Rate Filing: 20251231 Negotiated Rate to be effective 1/1/2026.

Filed Date: 12/31/25.

Accession Number: 20251231-5290.

Comment Date: 5 p.m. ET 1/12/26.

Docket Numbers: RP26-341-000.

Applicants: Algonquin Gas Transmission, LLC.

Description: 4(d) Rate Filing: Negotiated Rates—Various Releases eff 1-1-26 to be effective 1/1/2026.

Filed Date: 12/31/25.

Accession Number: 20251231-5316.

Comment Date: 5 p.m. ET 1/12/26.

Docket Numbers: RP26-342-000.

Applicants: Trunkline Gas Company, LLC.

Description: 4(d) Rate Filing: NRA Filing—Indiana Gas Co, Inc, d/b/a CenterPoint Energy Indiana North to be effective 1/1/2026.

Filed Date: 12/31/25.

Accession Number: 20251231-5321.

Comment Date: 5 p.m. ET 1/12/26.

Docket Numbers: RP26-343-000.

Applicants: Sabine Pipe Line LLC.

Description: 4(d) Rate Filing: Negotiated Rate Agreements—December 2025 to be effective 1/1/2026.

Filed Date: 12/31/25.

Accession Number: 20251231-5325.

Comment Date: 5 p.m. ET 1/12/26.

Docket Numbers: RP26-344-000.

Applicants: Ruby Pipeline, L.L.C.

Description: 4(d) Rate Filing: RP 2025-12-31 Negotiated Rate Agreements to be effective 1/1/2026.

Filed Date: 12/31/25.

Accession Number: 20251231-5385.

Comment Date: 5 p.m. ET 1/12/26.

Docket Numbers: RP26-345-000.

Applicants: Columbia Gas Transmission, LLC.

Description: 4(d) Rate Filing: Capacity Release Eff 1.1.26 to be effective 1/1/2026.

Filed Date: 12/31/25.

Accession Number: 20251231-5390.

Comment Date: 5 p.m. ET 1/12/26.

Docket Numbers: RP26-346-000.

Applicants: Equitrans, L.P.

Description: 4(d) Rate Filing: Negotiated Rate Capacity Release Agreements—1/1/2026 to be effective 1/1/2026.

Filed Date: 1/2/26.

Accession Number: 20260102-5085.

Comment Date: 5 p.m. ET 1/14/26.

Docket Numbers: RP26-347-000.

Applicants: Mountain Valley Pipeline, LLC.

Description: 4(d) Rate Filing: Negotiated Rate Capacity Release Agreements—1/1/2026 to be effective 1/1/2026.

Filed Date: 1/2/26.

Accession Number: 20260102-5095.

Comment Date: 5 p.m. ET 1/14/26.

Docket Numbers: RP26-348-000.

Applicants: Texas Eastern Transmission, LP.

Description: 4(d) Rate Filing: Negiotated Rates—Brooklyn Union to NRG eff 1-1-26 to be effective 1/1/2026.

Filed Date: 1/2/26.

Accession Number: 20260102-5117.

Comment Date: 5 p.m. ET 1/14/26.

Docket Numbers: RP26-349-000.

Applicants: NEXUS Gas Transmission, LLC.

Description: 4(d) Rate Filing: Negotiated Rates—Various Releases eff 1-1-26 to be effective 1/1/2026.

Filed Date: 1/2/26.

Accession Number: 20260102-5131.

Comment Date: 5 p.m. ET 1/14/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 2, 2026.
Debbie-Anne A. Reese,
Secretary.

[FR Doc. 2026-00078 Filed 1-6-26; 8:45 am]

BILLING CODE 6717-01-P